Executive Order 13188 of January 12, 2001

Amendment to Executive Order 13111, Extension of the

Advisory Committee on Expanding Training Opportunities

By the authority vested in me as President by the Constitution and the laws of the United States, including the Federal Advisory Committee Act, as amended (5 U.S.C. App.), and in order to extend the Advisory Committee on Expanding Training Opportunities for 2 years, it is hereby ordered that section 7(f) of Executive Order 13111 of January 12, 1999, is amended by deleting “2 years from the date of this order” and inserting “on January 11, 2003” in lieu thereof.

wj

THE WHITE HOUSE,

January 12, 2001.

[FR Doc. 01-1736

Filed 1-17-01; 8:45 am]

Billing code 3195-01-P